DEPARTMENT OF LABOR

Employment and Training Administration

[TA-W-52,945]

SMTC Manufacturing Corporation of Massachusetts, Franklin, MA; Notice of Termination of Investigation

Pursuant to section 221 of the Trade Act of 1974, an investigation was initiated on September 24, 2003 in response to a petition filed by a company official on behalf of workers at SMTC Manufacturing Corporation of Massachusetts, Franklin, Massachusetts.

The petitioner has requested that the petition be withdrawn. Consequently, the investigation has been terminated.

Signed in Washington, DC this 14th day of October 2003.
Elliott S. Kushner,
Certifying Officer, Division of Trade Adjustment Assistance.

[FR Doc. 03-29115 Filed 11-20-03; 8:45 am]

BILLING CODE 4510-30-P